DEPARTMENT OF AGRICULTURE

Submission for OMB Review; Comment Request

August 23, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Research Service

Title: National Agricultural Library Information Needs Assessment.

OMB Control Number: 0518-NEW.

Summary of Collection: Executive Order 12802 seeks to establish high quality customer service standards within all federal agencies that provide significant services directly to the public. The National Agricultural Library (NAL) is one such agency, mandated by the Farm Bill of 1990 to serve as the primary agricultural resource of the United States. NAL is called upon to provide agricultural information and information products to a variety of customers. NAL is seeking to issue a survey to identify the customers it already serves, as well as those it should be serving; to determine the kind and quality of services they want; and to assess their level of satisfaction with existing services.

Need and Use of the Information: The information collected from the survey will be used to evaluate institutional performance, reform management practices, and reallocate resources to services in line with customer needs and expectations. If the information is not collected, NAL will be hindered from advancing its mandate to provide accurate, timely and easily accessible agricultural information to its customers.

Description of Respondents: Individuals or households; Not-for-profit institutions; Business or other for-profit; Farms; Federal Government; State, Local and Tribal Government.

Number of Respondents: 122,200.

Frequency of Responses: Reporting: On occasion.

Total Burden Hours: 5,359.

Ruth Brown,
Departmental Information Collection Clearance Officer.

[FR Doc. 05-17056 Filed 8-26-05; 8:45 am]

BILLING CODE 3410-03-M